Proclamation 7537 of April 1, 2002

National Child Abuse Prevention Month, 2002

By the President of the United States of America

A Proclamation

Every child deserves to be cared for by parents who provide love, protection, and nurturing. Safe and healthy childhoods help produce confident and successful adults. When parents are unable to meet their responsibilities, the consequences are tragic for their children and for society. Nationwide, reports show that more than 879,000 children are victims of child abuse and neglect and approximately 1,200 children die from maltreatment, many at the hands of those who are supposed to protect them.

Children who are abused and neglected often carry the effects of their experiences into adulthood. They are much more likely to experience problems with substance abuse, depression, learning disabilities, and to engage in criminal activities and violence against others, including abuse of their own children. The societal effects of child abuse include the need for increased child welfare services, special education resources, physical and emotional health care services, and juvenile justice facilities.

My Administration is committed to promoting effective policies that protect children from harm while strengthening and supporting families. Promoting healthy marriages, and teaching responsible fatherhood and motherhood, are key priorities of my Administration. Last year, I worked with the Congress to provide an additional $70 million for the Promoting Safe and Stable Families Program, which is helping States ensure children's safety, permanency, and well-being. This program is designed to strengthen families at risk and prevent abuse and neglect. My 2003 budget includes a substantial increase of $130 million for this essential program.

The problem of child abuse requires a continuing national commitment, and we must remain vigilant in working to provide safety and security to each young person in our society.

Government alone cannot prevent child abuse. Child abuse prevention requires partnerships among Federal, State, and local governments, faith-based and community-based organizations, schools, law enforcement, and social service agencies. All of these organizations must work together with parents to protect children and help build healthy families and communities where children can reach their potential.

Every April, communities across the country join to raise public awareness about child abuse, to provide information about how to prevent it, and to assist families in need of support, recovery, and encouragement. During National Child Abuse Prevention Month, and throughout the year, I encourage all Americans to find ways to cherish our children, and strengthen our families.

NOW, THEREFORE, I, GEORGE W. BUSH, President of the United States of America, by virtue of the authority vested in me by the Constitution and laws of the United States, do hereby proclaim April 2002 as National Child Abuse Prevention Month. I call upon all Americans to observe this month by supporting the hard work of those who ensure our children's safety, and by playing an active role in creating a safer, healthier environment for our children's growth.

IN WITNESS WHEREOF, I have hereunto set my hand this first day of April, in the year of our Lord two thousand two, and of the Independence of the United States of America the two hundred and twenty-sixth.

B

[FR Doc. 02-8857

Filed 4-9-02; 8:45 am]

Billing code 3195-01-P